DEPARTMENT OF COMMERCE

National Oceanic and Atmospheric Administration

RIN 0648-XC348

Endangered Species; File Nos. 17367 and 17364

AGENCY: National Marine Fisheries Service (NMFS), National Oceanic and Atmospheric Administration (NOAA), Commerce.

ACTION: Issuance of permits.

SUMMARY: Notice is hereby given that the U.S. Fish and Wildlife Service (USFWS), Southeast Regional Office, Century Boulevard, Atlanta, GA 30602 [Thomas Sinclair: Responsible Party], has been issued a permit [File No. 17367] to take shortnose sturgeon (Acipenser brevirostrum) and Atlantic sturgeon (Acipenser oxyrinchus oxyrinchus) for purposes of scientific research; and also, that the USFWS, Northeast Fishery Center, PO Box 75, Lamar, PA 16848 [Michael Millard: Responsible Party], has been issued a permit [File No. 17364] to take Atlantic sturgeon for purposes of scientific research.

ADDRESSES: The permits and related documents are available for review upon written request or by appointment in the following offices:

• Permits, Conservation and Education Division, Office of Protected Resources, NMFS, 1315 East-West Highway, Room 13705, Silver Spring, MD 20910; phone (301) 427-8401; fax (301) 713-0376;

• Southeast Region, NMFS, 263 13th Avenue South, Saint Petersburg, FL 33701; phone (727) 824-5312; fax (727) 824-5309 [File No. 17367].

• Northeast Region, NMFS, 55 Great Republic Drive, Gloucester, MA 01930; phone (978) 281-9328; fax (978) 281-9394 [File No. 17364].

FOR FURTHER INFORMATION CONTACT: Malcolm Mohead or Colette Cairns, (301) 427-8401.

SUPPLEMENTARY INFORMATION: On November 13, 2012, notice was published in the Federal Register (77 FR 67631) that requests for scientific research permits to take shortnose sturgeon and/or Atlantic sturgeon had been submitted by the above-named applicants. The requested permits have been issued under the authority of the Endangered Species Act of 1973, as amended (ESA; 16 U.S.C. 1531 et seq.) and the regulations governing the taking, importing, and exporting of endangered and threatened species (50 CFR parts 222-226).

File No. 17367: The permit holder is issued a five year permit to study captive shortnose and Atlantic sturgeon to conduct scientific research facilitating the development of new methods needed for achieving species recovery in four facilities located in the Southeast Region of the USFWS. Research would include, but is not limited to, nutrition, physiology, propagation, contaminants, genetics, fish health, cryopreservation, tagging, refugia, as well as, collaborative research with other researchers. Additionally, work with captive animals would examine abiotic factors (e.g., pH, temperature, salinity dissolved oxygen, etc.) potentially influencing distribution and abundance in the wild.

File No. 17364: The permit holder is issued a five year permit to refine propagation and culture techniques of captive Atlantic sturgeon held in refugia at the USFWS's Northeast Fisheries Center, providing a source of research animals for studies related to tagging, tracking, behavior, physiology, genetics, health, cryopreservation, and other methods for population conservation, recovery, or enhancement of the species in the wild.

Issuance of this permit, as required by the ESA, was based on a finding that such permit (1) Was applied for in good faith, (2) will not operate to the disadvantage of such endangered or threatened species, and (3) is consistent with the purposes and policies set forth in section 2 of the ESA.

Dated: March 18, 2013.
P. Michael Payne,
Chief, Permits and Conservation Division, Office of Protected Resources, National Marine Fisheries Service.

[FR Doc. 2013-06647 Filed 3-21-13; 8:45 am]

BILLING CODE 3510-22-P